NUCLEAR REGULATORY COMMISSION

[Docket No. 50-333]

Entergy Nuclear Fitzpatrick, LLC and Entergy Nuclear Operations, Inc. James A. Fitzpatrick Nuclear Power Plant; Exemption

1.0 Background

Entergy Nuclear FitzPatrick, LLC and Entergy Nuclear Operations, Inc. are the holders of Facility Operating License No. DPR-59 which authorizes operation of the James A. FitzPatrick Nuclear Power Plant (JAF). The license provides, among other things, that the facility is subject to all rules, regulations, and orders of the U.S. Nuclear Regulatory Commission (NRC, the Commission) now or hereafter in effect.

The facility consists of a boiling-water reactor located in Oswego County in New York.

2.0 Purpose

By letter dated October 30, 2000, the Power Authority of the State of New York (PASNY), then the licensee for JAF, submitted a request for exemption from certain technical requirements of Section III.G of Appendix R to 10 CFR part 50, in accordance with the provisions of 10 CFR 50.12. Specifically, PASNY requested an exemption from Section III.G.2.c in that it requires certain redundant trains of equipment located in the same fire area, where automatic fire detection and automatic fire suppression are provided, to be protected with a 1-hour rated fire barrier. On November 21, 2000, PASNY's interests in the license were transferred to Entergy Nuclear FitzPatrick, LLC, which is now authorized to possess and use FitzPatrick and to Entergy Nuclear Operations, Inc., which is now authorized to possess, use and operate FitzPatrick. By letter dated January 26, 2001, Entergy Nuclear Operations, Inc. (the licensee) requested that the U.S. Nuclear Regulatory Commission (NRC) continue to review and act on all requests before the Commission which had been submitted by PASNY before the transfer. Accordingly, the NRC staff continued its review. By letter dated February 7, 2001, the licensee provided supplemental information.

Section III.G.2.c of appendix R Title 10 of the Code of Federal Regulations (10 CFR), part 50 specifies that certain fire protection features are necessary in order to assure the ability to achieve and maintain hot shutdown conditions. The high-pressure coolant injection (HPCI) for reactor coolant makeup and Train B of residual heat removal (RHR) for suppression pool cooling are credited in the licensee's safe shutdown analysis for achieving and maintaining hot shutdown conditions and Train B of alternate shutdown cooling (ASD) is credited for achieving cold shutdown for a fire in the west cable tunnel (CT-1). A power cable that supports HPCI, Train B RHR and ASD is routed through CT-1. CT-1 also houses the redundant required safe shutdown equipment.

The power cable for HPCI, Train B RHR and ASD in CT-1 has been protected with a fire wrap material to meet Appendix R in order to separate these systems from the redundant systems located in CT-1. However, it was found that this fire wrap material did not meet the requirements of 1-hour fire protection. Thus, an exemption from the requirements of Section III.G.2.c of appendix R to 10 CFR part 50 was requested.

3.0 Discussion

Pursuant to 10 CFR 50.12, the Commission may, upon application by any interested person or upon its own initiative, grant exemptions from the requirements of 10 CFR part 50, when (1) the exemptions are authorized by law, will not present an undue risk to public health or safety, and are consistent with the common defense and security; and (2) when special circumstances are present.

A power cable for HPCI, Train B RHR and ASD in CT-1 has been protected with a fire wrap material to meet appendix R in order to separate these systems from the redundant systems located in CT-1. The licensee intended that the fire barrier material be rated for 1 hour, but the licensee later identified that there was not sufficient evidence to demonstrate that the barrier meets the acceptance criteria for a rated 1-hour fire barrier wrap. Based on fire barrier testing, the barrier exceeded test acceptance criteria at 30 minutes.

The primary in-situ combustible loading in CT-1 is cable, which the licensee states would contribute to a slowly developing cable fire. The originally installed cables for JAF were specified and ordered before IEEE Std. 383-1974, which provides a flame spread rating indicating slow flame spreading, was issued. However, an analysis was performed by the licensee which evaluated the flame retardant capability of the installed cable and it was determined that the installed cable was similar to IEEE 383-1974 rated cable. The only other combustible materials identified in the area are limited quantities of fiberglass associated with a water tank, ladders and piping. The only ignition sources which have been identified are the cables.

An automatic area-wide early warning smoke detection system is installed in CT-1. The system was designed and installed to National Fire Protection Association (NFPA) standards, NFPA-72D, 1979, Proprietary Signaling Systems and NFPA-72E, 1978, Automatic Detectors. In some cases the installed system does not meet the codes of record. These code deficiencies are related to lack of electrical supervision of circuits, lack of recording of alarms, lack of environmental qualification, over loading of fire detection signaling lines, some beam pockets lacking detectors, and power supplies not meeting NFPA standards. The licensee has determined that the code deviations do not adversely impact safety performance. The majority of the deficiencies would not degrade the performance of the fire detection system but may impact the system's availability. Site administrative procedures control compensatory measures for the detection system in CT-1 in the event that the detection system is unavailable. The code deficiency of lacking smoke detectors in two of the beam pockets may impact the performance of the system. Based on the proximity of the unprotected beam pockets to the fire wrap, over 80 feet away, the licensee concludes that the smoke detectors in the general area are adequate to provide detection of any credible fire which may potentially damage the fire wrap. Based on the information provided by the licensee, the staff concurs that the code deviations and lack of detectors in all beam pockets would not adversely impact the fire detection system's performance in the area of the fire wrap.

An automatic area-wide wet pipe sprinkler system is installed in CT-1. The licensee states that the system meets the design requirements of NFPA-13, 1991, and is designed and installed as an Extra Hazard (Group 1) system. In addition, an in-tray automatic wet pipe water spray system is designed to suppress a tray based fire. The licensee states that the water spray system meets the design requirements of NFPA-15, 1990, Water Spray Systems. Water hose lines and fire extinguishers are available to the fire brigade inside the zone to support manual suppression. In addition, hose stations with additional lengths of hose are available outside of the area if needed.

Transient combustible materials in the area are kept to a minimum based on the administrative limits for the area. Administrative limits may be exceeded only when an evaluation has been performed and a combustible control permit has been issued. All station hot work, including cutting and welding, is controlled by administrative procedures. Special requirements for the CT-1 are that fire protection personnel will approve hot work in this area and that fire protection personnel will inspect the area during the performance of hot work at least every 2 hours.

The NRC staff examined the licensee's rationale to support the exemption request and believes that reasonable assurance that at least one means of achieving and maintaining safe shutdown conditions will remain available during and after any postulated fire in the plant. Accordingly, the request for an exemption from the requirements of 10 CFR part 50 appendix R, Section III.G.2.c with respect to fire area CT-1 meets the special circumstances delineated in 10 CFR part 50.12(a)(2)(ii), i.e., the application of the regulation in these particular circumstances is not necessary to achieve the underlying purpose of the rule. While the installed fire barrier in CT-1 has less than a 1-hour fire endurance rating, it will provide some resistance to fire. The area where the fire barrier is located has no ignition sources other than cables, has available manual suppression capability, and is equipped with automatic fire suppression and fire detection. Under these circumstances, there is an adequate level of fire safety such that there is reasonable assurance that at least one means of achieving and maintaining safe shutdown conditions will remain available during and after any postulated fire in the plant, and therefore, the underlying purpose of the rule is met.

Based on the NRC staff review, and circumstances described above, the staff concludes that an exemption from the technical requirements of Section III.G.2.c of appendix R to 10 CFR part 50 to the extent that it requires the enclosure of cables of one redundant train of safe shutdown equipment in a 1-hour fire rated barrier, is appropriate for fire area CT-1. See the safety evaluation that supports these findings dated May 29, 2001.

4.0 Conclusion

Accordingly, the Commission has determined that, pursuant to 10 CFR 50.12(a), the exemption is authorized by law, will not present an undue risk to public health and safety, and is consistent with the common defense and security. Also, special circumstances are present. Therefore, the Commission hereby grants Entergy Nuclear FitzPatrick, LLC and Entergy Nuclear Operations, Inc. the requested exemption from the requirements of Section III.G.2.c of appendix R to 10 CFR part 50 for the JAF.

Pursuant to 10 CFR 51.32, the Commission has determined that the granting of this exemption will not have a significant effect on the quality of the human environment (66 FR27540).

This exemption is effective upon issuance.

Dated at Rockville, Maryland, this 29th day of May 2001.
For the Nuclear Regulatory Commission.
Cynthia A. Carpenter,
Acting Director, Division of Licensing Project Management, Office of Nuclear Reactor Regulation.

[FR Doc. 01-13900 Filed 6-1-01; 8:45 am]

BILLING CODE 7590-01-P